DEPARTMENT OF ENERGY

Federal Energy Regulatory Commission

Combined Notice of Filings #1

Take notice that the Commission received the following electric corporate filings:

Docket Numbers: EC22-89-000.

Applicants: Sapphire Sky Wind Energy LLC, WEC Infrastructure LLC.

Description: Sapphire Sky Wind Energy LLC, et al., submits response to September 14, 2022 Deficiency Letter.

Filed Date: 10/14/22.

Accession Number: 20221014-5059.

Comment Date: 5 p.m. ET 11/4/22.

Docket Numbers: EC23-6-000.

Applicants: American Electric Power Service Corporation, Ohio Power Company, Guernsey Power Station LLC.

Description: Application for Authorization Under Section 203 of the Federal Power Act of Guernsey Power Station LLC, et al.

Filed Date: 10/13/22.

Accession Number: 20221013-5255.

Comment Date: 5 p.m. ET 11/3/22.

Take notice that the Commission received the following electric rate filings:

Docket Numbers: ER22-1837-001.

Applicants: Florida Power & Light Company.

Description: Compliance filing: Compliance Filing Regarding Formula Rate Template to be effective 12/31/9998.

Filed Date: 10/14/22.

Accession Number: 20221014-5175.

Comment Date: 5 p.m. ET 11/4/22.

Docket Numbers: ER22-2330-000.

Applicants: Pacific Gas and Electric Company.

Description: Refund Report: CCSF Refund Report for Additional Points Filing (SA 275) to be effective N/A.

Filed Date: 10/14/22.

Accession Number: 20221014-5106.

Comment Date: 5 p.m. ET 11/4/22.

Docket Numbers: ER22-2585-001.

Applicants: Public Service Company of New Mexico.

Description: Tariff Amendment: Response to Deficiency Letter and Request for Shortened Comment Period to be effective 10/1/2022.

Filed Date: 10/14/22.

Accession Number: 20221014-5168.

Comment Date: 5 p.m. ET 10/21/22.

Docket Numbers: ER23-84-001.

Applicants: Citizens Sycamore-Penasquitos Transmission LLC.

Description: Tariff Amendment: Amendment to TRBAA 2022 Filing to be effective 1/1/2023.

Filed Date: 10/14/22.

Accession Number: 20221014-5002.

Comment Date: 5 p.m. ET 11/4/22.

Docket Numbers: ER23-85-000.

Applicants: Duke Energy Florida, LLC.

Description: § 205(d) Rate Filing: DEF-FPL—Rate Schedule No. 387—Concurrence—Import Allocation Agmt to be effective 12/11/2022.

Filed Date: 10/13/22.

Accession Number: 20221013-5213.

Comment Date: 5 p.m. ET 11/3/22.

Docket Numbers: ER23-86-000.

Applicants: Public Service Company of Colorado.

Description: § 205(d) Rate Filing: 2022-10-14 Cedar Creek II LGIA Amnd 3 to be effective 10/15/2022.

Filed Date: 10/14/22.

Accession Number: 20221014-5054.

Comment Date: 5 p.m. ET 11/4/22.

Docket Numbers: ER23-87-000.

Applicants: American Electric Power Service Corporation, Ohio Power Company, PJM Interconnection, L.L.C.

Description: § 205(d) Rate Filing: American Electric Power Service Corporation submits tariff filing per 35.13(a)(2)(iii): AEP submits one Facilities Agreement re: ILDSA, SA No. 1336 to be effective 12/14/2022.

Filed Date: 10/14/22.

Accession Number: 20221014-5063.

Comment Date: 5 p.m. ET 11/4/22.

Docket Numbers: ER23-88-000.

Applicants: Basin Electric Power Cooperative.

Description: Tariff Amendment: Basin Electric Notice of Cancellation of Service Agreements to be effective 11/4/2022.

Filed Date: 10/14/22.

Accession Number: 20221014-5079.

Comment Date: 5 p.m. ET 11/4/22.

Docket Numbers: ER23-89-000.

Applicants: PJM Interconnection, L.L.C.

Description: Tariff Amendment: Notice of Cancellation of WMPA, SA No. 2648, Queue No. V3-044 to be effective 12/15/2022.

Filed Date: 10/14/22.

Accession Number: 20221014-5081.

Comment Date: 5 p.m. ET 11/4/22.

Docket Numbers: ER23-90-000.

Applicants: PJM Interconnection, L.L.C.

Description: Tariff Amendment: Notice of Cancellation of ISA, SA No. 5371, Non-Queue No. NQ147-1 to be effective 1/12/2022.

Filed Date: 10/14/22.

Accession Number: 20221014-5089.

Comment Date: 5 p.m. ET 11/4/22.

Docket Numbers: ER23-91-000.

Applicants: Georgia Power Company.

Description: Initial rate filing: SR Toombs Affected System Construction Agreement Filing to be effective 9/15/2022.

Filed Date: 10/14/22.

Accession Number: 20221014-5093.

Comment Date: 5 p.m. ET 11/4/22.

Docket Numbers: ER23-92-000.

Applicants: Consumers Energy Company.

Description: Tariff Amendment: Cancellation of Wholesale Distribution Service Agreements to be effective 12/31/9998.

Filed Date: 10/14/22.

Accession Number: 20221014-5098.

Comment Date: 5 p.m. ET 11/4/22.

Docket Numbers: ER23-93-000.

Applicants: Consumers Energy Company.

Description: § 205(d) Rate Filing: Wholesale Distribution Tariff and WDS Service Agreements to be effective 12/1/2022.

Filed Date: 10/14/22.

Accession Number: 20221014-5099.

Comment Date: 5 p.m. ET 11/4/22.

Docket Numbers: ER23-94-000.

Applicants: ISO New England Inc.

Description: § 205(d) Rate Filing: ISO-NE Capital Budget & Revised Tariff Sheets for Recovery of 2023 Admin. Costs to be effective 1/1/2023.

Filed Date: 10/14/22.

Accession Number: 20221014-5122.

Comment Date: 5 p.m. ET 11/4/22.

Docket Numbers: ER23-95-000.

Applicants: 83WI 8me, LLC.

Description: § 205(d) Rate Filing: Revised Market-Based Rate Tariff to be effective 10/15/2022.

Filed Date: 10/14/22.

Accession Number: 20221014-5123.

Comment Date: 5 p.m. ET 11/4/22.

Docket Numbers: ER23-96-000.

Applicants: Pacific Gas and Electric Company.

Description: Notice of Termination of Service Agreement No. 29 with Lambie Energy Center, LLC of Pacific Gas and Electric Company.

Filed Date: 10/14/22.

Accession Number: 20221014-5127.

Comment Date: 5 p.m. ET 11/4/22.

Docket Numbers: ER23-97-000.

Applicants: Pacific Gas and Electric Company.

Description: Notice of Termination of Service Agreement No. 30 with Goose Haven Energy Center, LLC of Pacific Gas and Electric Company.

Filed Date: 10/14/22.

Accession Number: 20221014-5128.

Comment Date: 5 p.m. ET 11/4/22.

Docket Numbers: ER23-98-000.

Applicants: Pacific Gas and Electric Company.

Description: Notice of Termination of Service Agreement No. 31 with Creed Energy Center, LLC of Pacific Gas and Electric Company.

Filed Date: 10/14/22.

Accession Number: 20221014-5138.

Comment Date: 5 p.m. ET 11/4/22.

Docket Numbers: ER23-99-000.

Applicants: Avista Corporation.

Description: Notice of Termination of Interconnection Agreement of Avista Corporation et al.

Filed Date: 10/14/22.

Accession Number: 20221014-5142.

Comment Date: 5 p.m. ET 11/4/22.

Docket Numbers: ER23-100-000.

Applicants: ISO New England Inc., New England Power Pool Participants Committee.

Description: § 205(d) Rate Filing: ISO New England Inc. submits tariff filing per 35.13(a)(2)(iii): ISO-NE; Filing for Recovery of Costs for the 2023 Operation of NESCOE to be effective 1/1/2023.

Filed Date: 10/14/22.

Accession Number: 20221014-5145.

Comment Date: 5 p.m. ET 11/4/22.

Docket Numbers: ER23-101-000.

Applicants: North East Offshore, LLC.

Description: Baseline eTariff Filing: North East Offshore, LLC Baseline Filing to be effective 12/14/2022.

Filed Date: 10/14/22.

Accession Number: 20221014-5158.

Comment Date: 5 p.m. ET 11/4/22.

Docket Numbers: ER23-102-000.

Applicants: Revolution Wind, LLC.

Description: Baseline eTariff Filing: Revolution Wind, LLC Baseline Filing to be effective 12/14/2022.

Filed Date: 10/14/22.

Accession Number: 20221014-5159.

Comment Date: 5 p.m. ET 11/4/22.

Docket Numbers: ER23-103-000.

Applicants: South Fork Wind, LLC.

Description: Baseline eTariff Filing: South Fork Wind, LLC Baseline Filing to be effective 12/14/2022.

Filed Date: 10/14/22.

Accession Number: 20221014-5162.

Comment Date: 5 p.m. ET 11/4/22.

Docket Numbers: ER23-104-000.

Applicants: Sunrise Wind LLC.

Description: Baseline eTariff Filing: Sunrise Wind LLC Baseline Filing to be effective 12/14/2022.

Filed Date: 10/14/22.

Accession Number: 20221014-5164.

Comment Date: 5 p.m. ET 11/4/22.

Docket Numbers: ER23-105-000.

Applicants: Pacific Gas and Electric Company.

Description: § 205(d) Rate Filing: PG&E UOG Amendments for Steelhead and Quail (SA 416 and SA 496) to be effective 12/14/2022.

Filed Date: 10/14/22.

Accession Number: 20221014-5171.

Comment Date: 5 p.m. ET 11/4/22.

Docket Numbers: ER23-106-000.

Applicants: Duke Energy Florida, LLC.

Description: Tariff Amendment: DEF-TECO Cancellation of RS No. 268. Concurrence to be effective 12/14/2022.

Filed Date: 10/14/22.

Accession Number: 20221014-5172.

Comment Date: 5 p.m. ET 11/4/22.

Docket Numbers: ER23-107-000.

Applicants: Union Electric Company.

Description: § 205(d) Rate Filing: Rate Schedule 22 to be effective 1/1/2023.

Filed Date: 10/14/22.

Accession Number: 20221014-5186.

Comment Date: 5 p.m. ET 11/4/22.

Docket Numbers: ER23-108-000.

Applicants: MD Solar 2, LLC.

Description: Baseline eTariff Filing: Baseline new to be effective 10/17/2022.

Filed Date: 10/14/22.

Accession Number: 20221014-5194.

Comment Date: 5 p.m. ET 11/4/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 14, 2022.
Kimberly D. Bose,
Secretary.

[FR Doc. 2022-22777 Filed 10-19-22; 8:45 am]

BILLING CODE 6717-01-P